DEPARTMENT OF THE INTERIOR

Bureau of Reclamation

Agency Information Collection Activities Under OMB Review; Renewal of a Currently Approved Information Collection

AGENCY: Bureau of Reclamation, Interior.

ACTION: Notice of renewal and request for comments.

SUMMARY: The Bureau of Reclamation has forwarded the following Information Collection Request to the Office of Management and Budget (OMB) for review and approval: Diversions, Return Flow, and Consumptive Use of Colorado River Water in the Lower Colorado River Basin (OMB Control Number 1006-0015).

DATES: OMB has up to 60 days to approve or disapprove this information collection, but may respond after 30 days; therefore, public comments must be received on or before October 29, 2012.

ADDRESSES: Send written comments to the Desk Officer for the Department of the Interior at the Office of Management and Budget, Office of Information and Regulatory Affairs, via facsimile to (202) 395-5806, or email to OIRA_DOCKET@omb.eop.gov. A copy of your comments should also be directed to the Bureau of Reclamation, Attention: Maria Germain (LC-4410), P.O. Box 61470, Boulder City, NV 89006, or to mgermain@usbr.gov. Please reference OMB Control No. 1006-0015 in your comments.

FOR FURTHER INFORMATION CONTACT: Margot Selig, Supervisory Contract and Repayment Specialist, Water Administration Group, Boulder Canyon Operations Office, Bureau of Reclamation, 702-293-8192. You may also view the Information Collection Request at www.reginfo.gov.

SUPPLEMENTARY INFORMATION:

I. Abstract

Reclamation delivers Colorado River water to water users for diversion and beneficial consumptive use in the States of Arizona, California, and Nevada. The Consolidated Decree of the United States Supreme Court in the case of Arizona v. California, et al., entered March 27, 2006, (547 U.S. 150 (2006)) requires the Secretary of the Interior to prepare and maintain complete, detailed, and accurate records of diversions of water, return flow, and consumptive use and make these records available at least annually. This information is needed to ensure that a State or a water user within a State does not exceed its authorized use of Colorado River water. Water users are obligated by provisions in their water delivery contracts to provide Reclamation information on diversions and return flows. Reclamation determines the consumptive use by subtracting return flow from diversions or by other engineering means. Without the information collected, Reclamation could not comply with the order of the United States Supreme Court to prepare and maintain detailed and accurate records of diversions, return flow, and consumptive use. This information collection is required to obtain a benefit. Reclamation collects this information using Reclamation forms LC-72, LC-72A, LC-72B, or electronic versions of these forms.

The required 60-day comment period for this information collection was initiated by a notice that published in the Federal Register on April 25, 2012 (77 FR 24736). No public comments were received.

II. Data

OMB Control Number: 1006-0015.

Title: Diversions, Return Flow, and Consumptive Use of Colorado River Water in the Lower Colorado River Basin.

Description of respondents: The respondents will include the Lower Basin States (Arizona, California, and Nevada), local and tribal entities, water districts, and individuals that use Colorado River water.

Frequency: Monthly and annually.

Estimated total number of respondents: 61.

Estimated number of responses per respondent: once per year or 12 times per year.

Estimated total number of annual responses: 292.

Estimated total annual burden hours: 49 hours.

Form Numbers: LC-72, LC-72A, and LC-72B.

Estimated burden for each form: 10 minutes.

III. Request for Comments

Comments are invited on:

(a) Whether the proposed collection of information is necessary for the proper performance of our functions, including whether the information will have practical use;

(b) The accuracy of our burden estimate for the proposed collection of information;

(c) Ways to enhance the quality, usefulness, and clarity of the information to be collected; and

(d) Ways to minimize the burden of the collection of information on respondents, including the use of automated collection techniques or other forms of information technology.

An agency may not conduct or sponsor, and a person is not required to respond to a collection of information unless it displays a currently valid OMB control number. Reclamation will display a valid OMB control number on the forms.

IV. Public Disclosure

Before including your address, telephone number, email address, or other personal identifying information in your comment, you should be aware that your entire comment—including your personal identifying information—may be made publicly available at any time. While you can ask us in your comment to withhold your personal identifying information from public review, we cannot guarantee that we will be able to do so.

Dated: September 25, 2012.
Grayford F. Payne,
Deputy Commissioner—Policy, Administration and Budget, Bureau of Reclamation.

[FR Doc. 2012-23973 Filed 9-27-12; 8:45 am]

BILLING CODE 4310-MN-P